DEPARTMENT OF TRANSPORTATION

Federal Aviation Administration

[Docket No. FAA-2021-0910]

Proposed Standardized Curricula Part 135 Delivered by Part 142 Training Centers, Aircraft Master Schedule

AGENCY: Federal Aviation Administration (FAA), Department of Transportation (DOT).

ACTION: Notice of availability; request for comments.

SUMMARY: This notice announces the availability of the proposed aircraft master schedule for the standardized curricula for certain air carriers and operators whose pilots receive training from FAA-certificated training centers. The FAA invites public comment.

DATES: The FAA must receive comments on these proposed documents by December 22, 2021.

ADDRESSES: You may send comments identified by docket number FAA-2021-0910 using any of the following methods:

Mail: U.S. Department of Transportation (DOT), Docket Operations, M-30, West Building Ground Floor, Room W12-140, 1200 New Jersey Avenue SE, Washington, DC 20590.

Hand Delivery or Courier: Take comments to Docket Operations in Room W12-140 of the West Building Ground Floor at 1200 New Jersey Avenue SE, Washington, DC, between 9 a.m. and 5 p.m., Monday through Friday, except Federal holidays.

Fax: Fax comments to Docket Operations at 202-493-2251.

Privacy: DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or Docket Operations in Room W12-140 of the West Building Ground Floor at 1200 New Jersey Avenue SE, Washington, DC, between 9 a.m. and 5 p.m., Monday through Friday, except Federal holidays.

FOR FURTHER INFORMATION CONTACT: Joshua Tarkington, Flight Standards, Air Transportation Division, Training and Simulation Group (AFS-280), Joshua.Tarkington@faa.gov, (860) 708-3839. Federal Aviation Administration, 800 Independence Avenue SW, Washington, DC 20591.

SUPPLEMENTARY INFORMATION: The standardized curriculum concept for Title 14 Code of Federal Regulations (14 CFR) part 135 training provided by part 142 training centers is a voluntary approach to training. Additional information about standardized curricula is available in Advisory Circular (AC) 142-1, Standardized Curricula Delivered by Part 142 Training Centers.

Background

The FAA tasked the Aviation Rulemaking Advisory Committee (ARAC) in March 2020, which was further designated to the Training Standardization Working Group (TSWG), with providing advice and recommendations to the ARAC on the most effective ways to achieve standardization (where appropriate) and significant administrative efficiency in check pilot qualification, flight instructor qualification, and part 135 air carrier training curricula delivered by part 142 training centers, known as the Standardized Curriculum Concept. TSWG membership includes representatives from training centers, aircraft manufacturers, operators, and aviation industry organizations.

Standardized curricula will provide a common method for quality training accessible to any certificate holder that obtains approval to use the curriculum in its FAA-approved training program. The Standardized Curriculum Concept aims to provide an efficient means to approve training curricula offered by part 142 training centers while increasing the consistency of training, testing, and checking delivered to part 135 operators. The use of standardized curricula is strictly voluntary and is one means to comply with the applicable regulatory requirements of parts 135 and 142. The standardized curriculum does not modify existing regulatory requirements for pilot training or qualification.

One of the tasks to the ARAC included the following:

• Development of a master schedule that lists the priority of aircraft or series of aircraft for standardized curriculum development.

In order to determine a prioritized list of aircraft for which a standardized curriculum would be appropriate, the working group reviewed training data from centers that represent approximately 80% of air carrier training events. The TSWG chose this methodology to provide a valid sampling of training centers and preferred aircraft training platforms. The group reviewed the aircraft-specific data and ranked the highest density training events to the lowest. This approach ensured the aircraft priority matched industry demand.

Comments Invited

The FAA invites public comments on the TSWG proposed Standardized Curricula for Part 135 Delivered by Part 142 Training Centers, Aircraft Master Schedule. The FAA will consider the public comments submitted during this comment period in finalizing the Aircraft Master Schedule.

Robert C. Carty,
Deputy Executive Director, Flight Standards Service.

[FR Doc. 2021-26217 Filed 12-1-21; 8:45 am]

BILLING CODE 4910-13-P